DEPARTMENT OF ENERGY

Federal Energy Regulatory Commission

Combined Notice of Filings No. 1

April 07, 2010.

Take notice that the Commission received the following exempt wholesale generator filings:

Docket Numbers: EG10-29-000.

Applicants: Big Horn Wind Project LLC.

Description: Notice of Self-Certification of Exempt Wholesale Generator Status of Big Horn II Wind Project LLC.

Filed Date: 04/07/2010.

Accession Number: 20100407-5039.

Comment Date: 5 p.m. Eastern Time on Wednesday, April 28, 2010.

Docket Numbers: EG10-30-000.

Applicants: Juniper Canyon Wind Power LLC.

Description: Notice of Self-Certification of Exempt Wholesale Generator Status of Juniper Canyon Wind Power LLC.

Filed Date: 04/07/2010.

Accession Number: 20100407-5040.

Comment Date: 5 p.m. Eastern Time on Wednesday, April 28, 2010.

Take notice that the Commission received the following electric rate filings:

Docket Numbers: ER99-1435-022; ER10-390-001; ER00-1814-010.

Applicants: Avista Corporation; Avista Turbine Power, Inc.; Avista Turbine Power, Inc.

Description: Request for Waiver of Avista Corporation.

Filed Date: 04/02/2010.

Accession Number: 20100402-5073.

Comment Date: 5 p.m. Eastern Time on Friday, April 23, 2010.

Docket Numbers: ER10-822-001.

Applicants: Southwest Power Pool, Inc.

Description: Southwest Power Pool, Inc submits an errata to their Meter Agent Service Agreement filed on March 2, 2010.

Filed Date: 04/06/2010.

Accession Number: 20100407-0208.

Comment Date: 5 p.m. Eastern Time on Tuesday, April 27, 2010.

Docket Numbers: ER10-1016-000.

Applicants: Duke Energy Indiana, Inc.

Description: Duke Energy Indiana, Inc submits updated summary schedules for the Transmission and Local Facilities Agreement for the Calendar Year 2008 with Wabash Valley Power Association, Inc.

Filed Date: 04/06/2010.

Accession Number: 20100406-0207.

Comment Date: 5 p.m. Eastern Time on Tuesday, April 27, 2010.

Docket Numbers: ER10-1018-000.

Applicants: PacifiCorp.

Description: PacifiCorp submits First Revised Sheet 9 et al. to First Revised Rate Schedule FERC 239.

Filed Date: 04/06/2010.

Accession Number: 20100406-0211.

Comment Date: 5 p.m. Eastern Time on Tuesday, April 27, 2010.

Docket Numbers: ER10-1019-000.

Applicants: PacifiCorp.

Description: PacifiCorp submits Revision 8 to Appendix A of First Revised Schedule FERC 297.

Filed Date: 04/06/2010.

Accession Number: 20100406-0212.

Comment Date: 5 p.m. Eastern Time on Tuesday, April 27, 2010.

Docket Numbers: ER10-1021-000.

Applicants: Connecticut Yankee Atomic Power Company.

Description: Connecticut Yankee Atomic Power Co submits petition for waiver of tariff provision.

Filed Date: 04/06/2010.

Accession Number: 20100407-0213.

Comment Date: 5 p.m. Eastern Time on Tuesday, April 27, 2010.

Docket Numbers: ER10-1022-000.

Applicants: Just Energy Texas LP.

Description: Just Energy Texas LP submits notice of cancellation of its market-based rate tariff designated as First Revised Rate Schedule FERC No 1, Original Volume No 1.

Filed Date: 04/06/2010.

Accession Number: 20100407-0211.

Comment Date: 5 p.m. Eastern Time on Tuesday, April 27, 2010.

Docket Numbers: ER10-1023-000.

Applicants: Just Energy, LLC.

Description: Just Energy, LLC submits Notice of Cancellation of its market-based rate tariff designated as Second Revised Rate Schedule FERC 1, Original Volume 1.

Filed Date: 04/06/2010.

Accession Number: 20100407-0210.

Comment Date: 5 p.m. Eastern Time on Tuesday, April 27, 2010.

Docket Numbers: ER10-1024-000.

Applicants: Midwest Independent Transmission System Operator, Inc.

Description: Midwest Independent Transmission System Operator, Inc submits Commission acceptance and approval of the proposed classification for certain Grandfathered Agreement of Big Rivers Electric Corp. etc.

Filed Date: 04/06/2010.

Accession Number: 20100407-0209.

Comment Date: 5 p.m. Eastern Time on Tuesday, April 27, 2010.

Docket Numbers: ER10-1025-000.

Applicants: Just Energy Ohio, LLC.

Description: Just Energy Ohio, LLC submits Notice of Cancellation of its market-based rate tariff designated as First Revised Rate Schedule FERC 1, Original Volume 1.

Filed Date: 04/06/2010.

Accession Number: 20100407-0207.

Comment Date: 5 p.m. Eastern Time on Tuesday, April 27, 2010.

Docket Numbers: ER10-1026-000.

Applicants: Just Energy New York, LLC.

Description: Just Energy New York, LLC submits Notice of Cancellation of their market-based rate tariff, designated as First Revised Rate Schedule FERC No 1, Original Volume No 1.

Filed Date: 04/06/2010.

Accession Number: 20100407-0206.

Comment Date: 5 p.m. Eastern Time on Tuesday, April 27, 2010.

Docket Numbers: ER10-1027-000.

Applicants: Southern California Edison Company.

Description: Southern California Edison Company submits a Small Generator Interconnection Agreement and a Service Agreement for Wholesale Distribution Service between the Transmission Distribution Business Unit of SCE.

Filed Date: 04/06/2010.

Accession Number: 20100407-0205.

Comment Date: 5 p.m. Eastern Time on Tuesday, April 27, 2010.

Docket Numbers: ER10-1028-000.

Applicants: Madison Paper Industries.

Description: Madison Paper Industries submits tariff filing per 35.12: Baseline Filing to be effective 3/1/2009.

Filed Date: 04/07/2010.

Accession Number: 20100407-5029.

Comment Date: 5 p.m. Eastern Time on Wednesday, April 28, 2010.

Take notice that the Commission received the following open access transmission tariff filings:

Docket Numbers: OA10-3-000.

Applicants: Crystal Lake Wind II, LLC.

Description: Crystal Lake Wind, LLC Amendment to Petition for Waiver of Commission Rules.

Filed Date: 04/05/2010.

Accession Number: 20100405-5109.

Comment Date: 5 p.m. Eastern Time on Thursday, April 15, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-8612 Filed 4-14-10; 8:45 am]

BILLING CODE 6717-01-P